ENVIRONMENTAL PROTECTION AGENCY

[EPA-HQ-OAR-2022-0077, EPA-HQ-OAR-2022-0084, etc.; FRL-10013-01-OAR]

Proposed Information Collection Request; Comment Request

AGENCY: Environmental Protection Agency (EPA).

ACTION: Notice.

SUMMARY: The U.S. Environmental Protection Agency (EPA) is planning to submit the below listed information collection requests (ICR) to the Office of Management and Budget (OMB) for review and approval in accordance with the Paperwork Reduction Act. Before doing so, EPA is soliciting public comments on specific aspects of the proposed information collection as described below. These are proposed extensions of the currently approved ICRs. An Agency may not conduct, or sponsor and a person is not required to respond to a collection of information unless it displays a currently valid OMB control number.

DATES: Comments must be submitted on or before September 20, 2022.

ADDRESSES: Submit your comments, referencing the Docket ID numbers provided for each item in the text, online using https://www.regulations.gov (our preferred method), by email to a-and-r-docket@epa.gov, or by mail to: EPA Docket Center, Environmental Protection Agency, Mail Code 28221T, 1200 Pennsylvania Ave. NW, Washington, DC 20460.

The EPA's policy is that all relevant comments received will be included in the public docket without change including any personal information provided, unless the comment includes profanity, threats, information claimed to be Confidential Business Information (CBI) or other information whose disclosure is restricted by statute.

FOR FURTHER INFORMATION CONTACT: Mr. Muntasir Ali, Sector Policies and Programs Division, (D243-05), Office of Air Quality Planning and Standards, U.S. Environmental Protection Agency, Research Triangle Park, North Carolina 27711; telephone number: (919) 541-0833; email address: Ali.Muntasir@epa.gov.

SUPPLEMENTARY INFORMATION: Supporting documents which explain in detail the information that the EPA will be collecting are available in the public docket for this ICR. The docket can be viewed online at https://www.regulations.gov/ or in person at the EPA Docket Center, WJC West Building, Room 3334, 1301 Constitution Ave. NW, Washington, DC. The telephone number for the Docket Center is 202-566-1744. For additional information about EPA's public docket, visit https://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

General Abstract: For all the listed ICRs in this notice, owners and operators of affected facilities are required to comply with reporting and record keeping requirements for the general provisions of 40 CFR part 60, subpart A or part 63, subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OAR-2022-0077; NESHAP for Pulp and Paper Production (40 CFR part 63, subpart S) (Renewal); EPA ICR Number 1657.10; OMB Control Number 2060-0387; Expiration date January 31, 2023.

Respondents: Pulp and paper production facilities.

Respondent's obligation to respond: Mandatory (40 CFR part 63, subpart S).

Estimated number of respondents: 114.

Frequency of response: Initially, semiannually.

Estimated annual burden: 44,438 hours.

Estimated annual cost: $5,191,000, includes $841,000 annualized capital or O&M costs.

Changes in estimates: There is no projected change in burden from the previous ICR.

(2) Docket ID Number: EPA-HQ-OAR-2022-0084; NESHAP for Hazardous Waste Combustors (40 CFR part 63, subpart EEE) (Renewal); EPA ICR Number 1773.13; OMB Control Number 2060-0171; Expiration date January 31, 2023.

Respondents: Hazardous waste combustion units.

Respondent's obligation to respond: Mandatory (40 CFR part 63, subpart EEE).

Estimated number of respondents: 179.

Frequency of response: Semiannually, quarterly.

Estimated annual burden: 62,500 hours.

Estimated annual cost: $9,560,000, includes $2,890,000 annualized capital or O&M costs.

Changes in estimates: There is a projected decrease in burden due to anticipated shutdown of existing sources.

(3) Docket ID Number: EPA-HQ-OAR-2022-0085; NESHAP for Oil and Natural Gas Production (40 CFR part 63, subpart HH) (Renewal); EPA ICR Number 1788.13; OMB Control Number 2060-0417; Expiration date January 31, 2023.

Respondents: Oil and natural gas production facilities.

Respondent's obligation to respond: Mandatory (40 CFR part 63, subpart HH).

Estimated number of respondents: 4,669.

Frequency of response: Semiannually.

Estimated annual burden: 54,400 hours.

Estimated annual cost: $7,340,000, includes $1,040,000 annualized capital or O&M costs.

Changes in estimates: There is a projected increase in burden due to an increase in the number of sources subject to the regulation.

(4) Docket ID Number: EPA-HQ-OAR-2022-0087; NESHAP for Mineral Wool Production (40 CFR part 63, subpart DDD) (Renewal); EPA ICR Number 1799.11; OMB Control Number 2060-0362; Expiration date January 31, 2023.

Respondents: Mineral wool production facilities.

Respondent's obligation to respond: Mandatory (40 CFR part 63, subpart DDD).

Estimated number of respondents: 8.

Frequency of response: Semiannually.

Estimated annual burden: 2,130 hours.

Estimated annual cost: $308,000, includes $6,000 annualized capital or O&M costs.

Changes in estimates: There is no projected change in burden from the previous ICR.

(5) Docket ID Number: EPA-HQ-OAR-2022-0017; NESHAP for Petroleum Refineries: Catalytic Cracking Units, Reforming and Sulfur Units (40 CFR part 63, subpart UUU) (Renewal); EPA ICR Number 1844.12; OMB Control Number 2060-0554; Expiration date January 31, 2023.

Respondents: Petroleum refineries that operate catalytic cracking units, catalytic reforming units, and sulfur recovery units.

Respondent's obligation to respond: Mandatory (40 CFR part 63, subpart UUU).

Estimated number of respondents: 142.

Frequency of response: Initially, semiannually.

Estimated annual burden: 17,500 hours.

Estimated annual cost: $10,800,000, includes $8,780,000 annualized capital or O&M costs.

Changes in estimates: There is no projected change in burden from the previous ICR.

(6) Docket ID Number: EPA-HQ-OAR-2022-0019; NESHAP for the Manufacture of Amino/Phenolic Resins (40 CFR part 63, subpart OOO) (Renewal); EPA ICR Number 1869.12; OMB Control Number 2060-0434; Expiration date January 31, 2023.

Respondents: Amino/phenolic resin manufacturing facilities.

Respondent's obligation to respond: Mandatory (40 CFR part 63, subpart OOO).

Estimated number of respondents: 19.

Frequency of response: Initially, annually, semiannually.

Estimated annual burden: 23,300 hours.

Estimated annual cost: $4,910,000, includes $2,210,000 annualized capital or O&M costs.

Changes in estimates: There is no projected change in burden from the previous ICR.

(7) Docket ID Number: EPA-HQ-OAR-2022-0020; NESHAP for Publicly Owned Treatment Works (40 CFR part 63, subpart VVV) (Renewal); EPA ICR Number 1891.11; OMB Control Number 2060-0428; Expiration date January 31, 2021.

Respondents: Publicly-Owned Treatment Works (POTW).

Respondent's obligation to respond: Mandatory (40 CFR part 63, subpart VVV).

Estimated number of respondents: 13.

Frequency of response: Annually.

Estimated annual burden: 16 hours.

Estimated annual cost: $750, includes no annualized capital or O&M costs.

Changes in estimates: There is no projected change in burden from the previous ICR.

(8) Docket ID Number: EPA-HQ-OAR-2022-0022; Emission Guidelines for Hospital/Medical/Infectious Waste Incinerators (40 CFR part 60, subpart Ce and 40 CFR part 62, subpart HHH) (Renewal); EPA ICR Number 1899.10; OMB Control Number 2060-0422; Expiration date January 31, 2023.

Respondents: Hospital/medical/infectious waste incineration units.

Respondent's obligation to respond: Mandatory (40 CFR part 60, subpart Ce and 40 CFR part 62, subpart HHH).

Estimated number of respondents: 58.

Frequency of response: Annually, semiannually.

Estimated annual burden: 38,800 hours.

Estimated annual cost: $4,620,000, includes $479,000 annualized capital or O&M costs.

Changes in estimates: There is no projected change in burden from the previous ICR.

(9) Docket ID Number: EPA-HQ-OAR-2022-0024; NSPS for Commercial and Industrial Solid Waste Incineration Units (40 CFR part 60, subpart CCCC) (Renewal); EPA ICR Number 1926.09; OMB Control Number 2060-0450; Expiration date January 31, 2023.

Respondents: Commercial and industrial solid waste incineration units.

Respondent's obligation to respond: Mandatory (40 CFR part 60, subpart CCC).

Estimated number of respondents: 30.

Frequency of response: Annually, semiannually.

Estimated annual burden: 6,520 hours.

Estimated annual cost: $1,160,000, includes $406,000 annualized capital or O&M costs.

Changes in estimates: There is no projected change in burden from the previous ICR.

(10) Docket ID Number: EPA-HQ-OAR-2022-0027; NESHAP for Stationary Combustion Turbines (40 CFR part 63, subpart YYYY) (Renewal); EPA ICR Number 1967.09; OMB Control Number 2060-0540; Expiration date January 31, 2023.

Respondents: Stationary combustion turbines.

Respondent's obligation to respond: Mandatory (40 CFR part 63, subpart YYYY).

Estimated number of respondents: 122.

Frequency of response: Annually, semiannually.

Estimated annual burden: 1,430 hours.

Estimated annual cost: $166,000, includes no annualized capital or O&M costs.

Changes in estimates: There is no projected change in burden from the previous ICR.

(11) Docket ID Number: EPA-HQ-OAR-2022-0029; NESHAP for Plywood and Composite Wood Products (40 CFR part 63, subpart DDDD) (Renewal); EPA ICR Number 1984.10; OMB Control Number 2060-0552; Expiration date January 31, 2023.

Respondents: Plywood and composite products manufacturing facilities.

Respondent's obligation to respond: Mandatory (40 CFR part 63, subpart DDDD).

Estimated number of respondents: 244.

Frequency of response: Initially, semiannually.

Estimated annual burden: 29,900 hours.

Estimated annual cost: $3,550,000, includes $105,000 annualized capital or O&M costs.

Changes in estimates: There is no projected change in burden from the previous ICR.

(12) Docket ID Number: EPA-HQ-OAR-2022-0033; NESHAP for Automobile and Light-duty Truck Surface Coating (40 CFR part 63, subpart IIII) (Renewal); EPA ICR Number 2045.10; OMB Control Number 2060-0550; Expiration date January 31, 2023.

Respondents: Automobile and light-duty truck surface coating operations.

Respondent's obligation to respond: Mandatory (40 CFR part 63, subpart IIII).

Estimated number of respondents: 43.

Frequency of response: Semiannually.

Estimated annual burden: 17,500 hours.

Estimated annual cost: $2,070,000, includes $51,600 annualized capital or O&M costs.

Changes in estimates: There is no projected change in burden from the previous ICR.

(13) Docket ID Number: EPA-HQ-OAR-2022-0035; NESHAP for Iron and Steel Foundries (40 CFR part 63, subpart EEEEE) (Renewal); EPA ICR Number 2096.10; OMB Control Number 2060-0543; Expiration date January 31, 2023.

Respondents: Iron and steel foundries.

Respondent's obligation to respond: Mandatory (40 CFR part 63, subpart EEEEE).

Estimated number of respondents: 45.

Frequency of response: Initially, semiannually.

Estimated annual burden: 15,000 hours.

Estimated annual cost: $1,400,000, includes $206,000 annualized capital or O&M costs.

Changes in estimates: There is a projected increase in burden due to implementation of regulatory revisions.

(14) Docket ID Number: EPA-HQ-OAR-2022-0036; NESHAP for Miscellaneous Coating Manufacturing (40 CFR part 63, subpart HHHHH) (Renewal); EPA ICR Number 2115.08; OMB Control Number 2060-0535; Expiration date January 31, 2023.

Respondents: Miscellaneous coating manufacturing facilities.

Respondent's obligation to respond: Mandatory (40 CFR part 63, subpart HHHHH).

Estimated number of respondents: 43.

Frequency of response: Semiannually.

Estimated annual burden: 54,600 hours.

Estimated annual cost: $7,240,000, includes $907,000 annualized capital or O&M costs.

Changes in estimates: There is a projected increase in burden due to implementation of regulatory revisions.

(15) Docket ID Number: EPA-HQ-OAR-2022-0040; NESHAP for Clay Ceramics Manufacturing, Glass Manufacturing, and Secondary Nonferrous Metals Processing Area Sources (40 CFR part 63, subparts RRRRRR, SSSSSS, and TTTTTT) (Renewal); EPA ICR Number 2274.07; OMB Control Number 2060-0606; Expiration date January 31, 2023.

Respondents: Clay ceramics manufacturing facilities, glass manufacturing facilities, and secondary nonferrous metals processing facilities.

Respondent's obligation to respond: Mandatory (40 CFR part 63, subparts RRRRRR, SSSSSS, and TTTTTT).

Estimated number of respondents: 82.

Frequency of response: Initially, annually.

Estimated annual burden: 1,950 hours.

Estimated annual cost: $235,000, includes $13,200 annualized capital or O&M costs.

Changes in estimates: There is no projected change in burden from the previous ICR.

(16) Docket ID Number: EPA-HQ-OAR-2022-0435; Emission Guidelines for Municipal Solid Waste Landfills (40 CFR part 60, subpart Cf) (Renewal); EPA ICR Number 2522.04; OMB Control Number 2060-0720; Expiration date January 31, 2023.

Respondents: Municipal solid waste landfills.

Respondent's obligation to respond: Mandatory (40 CFR part 60, subpart Cf).

Estimated number of respondents: 1,912.

Frequency of response: Initially, annually.

Estimated annual burden: 634,000 hours.

Estimated annual cost: $45,600,000, includes $2,760,000 annualized capital or O&M costs.

Changes in estimates: There is a projected decrease in burden due to more accurate estimates of facilities subject to monitoring and testing requirements and more accurate estimates of facilities subject to state plans.

(17) Docket ID Number: EPA-HQ-OAR-2022-0082; NSPS for Hospital/Medical/Infectious Waste Incinerators (40 CFR part 60, subpart Ec) (Renewal); EPA ICR Number 1730.12; OMB Control Number 2060-0363; Expiration date February 28, 2023.

Respondents: Hospital/medical/infectious waste incineration units.

Respondent's obligation to respond: Mandatory (40 CFR part 60, subpart Ec).

Estimated number of respondents: 11.

Frequency of response: Initially, annually, semiannually.

Estimated annual burden: 7,410 hours.

Estimated annual cost: $1,360,000, includes $519,000 annualized capital or O&M costs.

Changes in estimates: There is a projected increase in burden due to an increase in the number of sources subject to the regulation.

(18) Docket ID Number: EPA-HQ-OAR-2022-0058; NSPS for Sewage Sludge Treatment Plants (40 CFR part 60, subpart O) (Renewal); EPA ICR Number 1063.15; OMB Control Number 2060-0035; Expiration date March 31, 2023.

Respondents: Sewage sludge treatment plants.

Respondent's obligation to respond: Mandatory (40 CFR part 60, subpart O).

Estimated number of respondents: 86.

Frequency of response: Initially, semiannually.

Estimated annual burden: 9,690 hours.

Estimated annual cost: $4,170,000, includes $3,050,000 annualized capital or O&M costs.

Changes in estimates: There is no projected change in burden from the previous ICR.

(19) Docket ID Number: EPA-HQ-OAR-2022-0062; NSPS for Phosphate Rock Plants (40 CFR part 60, subpart NN) (Renewal); EPA ICR Number 1078.13; OMB Control Number 2060-0111; Expiration date March 31, 2023.

Respondents: Phosphate rock plants.

Respondent's obligation to respond: Mandatory (40 CFR part 60, subpart NN).

Estimated number of respondents: 15.

Frequency of response: Semiannually.

Estimated annual burden: 1,800 hours.

Estimated annual cost: $335,000, includes $126,000 annualized capital or O&M costs.

Changes in estimates: There is no projected change in burden from the previous ICR.

(20) Docket ID Number: EPA-HQ-OAR-2022-0071; NSPS for Rubber Tire Manufacturing (40 CFR part 60, subpart BBB) (Renewal); EPA ICR Number 1158.14; OMB Control Number 2060-0156; Expiration date March 31, 2023.

Respondents: Rubber tire manufacturing facilities.

Respondent's obligation to respond: Mandatory (40 CFR part 60, subpart BBB).

Estimated number of respondents: 41.

Frequency of response: Annually, semiannually.

Estimated annual burden: 17,700 hours.

Estimated annual cost: $2,070,000, includes $16,400 annualized capital or O&M costs.

Changes in estimates: There is no projected change in burden from the previous ICR.

(21) Docket ID Number: EPA-HQ-OAR-2022-0083; NESHAP for the Printing and Publishing Industry (40 CFR part 63, subpart KK) (Renewal); EPA ICR Number 1739.10; OMB Control Number 2060-0335; Expiration date March 31, 2023.

Respondents: Printing and publishing facilities.

Respondent's obligation to respond: Mandatory (40 CFR part 63, subpart KK)

Estimated number of respondents: 352.

Frequency of response: Semiannually.

Estimated annual burden: 59,800 hours.

Estimated annual cost: $7,220,000, includes $414,000 annualized capital or O&M costs.

Changes in estimates: There is no projected change in burden from the previous ICR.

(22) Docket ID Number: EPA-HQ-OAR-2022-0016; NESHAP for the Portland Cement Manufacturing Industry (40 CFR part 63, subpart LLL) (Renewal); EPA ICR Number 1801.14; OMB Control Number 2060-0416; Expiration date March 31, 2023.

Respondents: Portland cement manufacturing facilities.

Respondent's obligation to respond: Mandatory (40 CFR part 63, subpart LLL).

Estimated number of respondents: 40.

Frequency of response: Initially, annually, semiannually.

Estimated annual burden: 12,200 hours.

Estimated annual cost: $6,100,000, includes $4,730,000 annualized capital or O&M costs.

Changes in estimates: There is no projected change in burden from the previous ICR.

(23) Docket ID Number: EPA-HQ-OAR-2022-0030; NESHAP for Hydrochloric Acid Production (40 CFR part 63, subpart NNNNN) (Renewal); EPA ICR Number 2032.12; OMB Control Number 2060-0529; Expiration date March 31, 2023.

Respondents: Hydrochloric acid production facilities.

Respondent's obligation to respond: Mandatory (40 CFR part 63, subpart NNNNN).

Estimated number of respondents: 19.

Frequency of response: Annually, semiannually.

Estimated annual burden: 22,000 hours.

Estimated annual cost: $1,562,000, includes $162,000 annualized capital or O&M costs.

Changes in estimates: There is no projected change in burden from the previous ICR.

(24) Docket ID Number: EPA-HQ-OAR-2022-0032; NESHAP for Plastic Parts and Products Surface Coating (40 CFR part 63, subpart PPPP) (Renewal); EPA ICR Number 2044.10; OMB Control Number 2060-0537; Expiration date March 31, 2023.

Respondents: Plastic parts and products surface coating operations.

Respondent's obligation to respond: Mandatory (40 CFR part 63, subpart PPPP).

Estimated number of respondents: 125.

Frequency of response: Semiannually.

Estimated annual burden: 86,400 hours.

Estimated annual cost: $9,910,000, includes $66,900 annualized capital or O&M costs.

Changes in estimates: There is a projected increase in burden due to implementation of regulatory revisions.

(25) Docket ID Number: EPA-HQ-OAR-2022-0034; NESHAP for Miscellaneous Metal Parts and Products (40 CFR part 63, subpart MMMM) (Renewal); EPA ICR Number 2056.09; OMB Control Number 2060-0486; Expiration date March 31, 2023.

Respondents: Miscellaneous metal parts and products surface coating operations.

Respondent's obligation to respond: Mandatory (40 CFR part 63, subpart MMMM).

Estimated number of respondents: 390.

Frequency of response: Semiannually.

Estimated annual burden: 179,000 hours.

Estimated annual cost: $20,60,000, includes $240,000 annualized capital or O&M costs.

Changes in estimates: There is a projected decrease in burden due to a decrease in the number of sources subject to the regulation.

(26) Docket ID Number: EPA-HQ-OAR-2022-0043; NESHAP for Prepared Feeds Manufacturing (40 CFR part 63, subpart DDDDDDD) (Renewal); EPA ICR Number 2354.06; OMB Control Number 2060-0635; Expiration date March 31, 2023.

Respondents: Animal feed production facilities.

Respondent's obligation to respond: Mandatory (40 CFR part 63, subpart DDDDDDD).

Estimated number of respondents: 1,800.

Frequency of response: Annually, quarterly.

Estimated annual burden: 64,100 hours.

Estimated annual cost: $7,350,000, includes $37,200 annualized capital or O&M costs.

Changes in estimates: There is no projected change in burden from the previous ICR.

(27) Docket ID Number: EPA-HQ-OAR-2022-0015; NSPS for Graphic Arts Industry (40 CFR part 60, subpart QQ) (Renewal); EPA ICR Number 0657.14; OMB Control Number 2060-0105; Expiration date July 31, 2023.

Respondents: Rotogravure printing presses for publication.

Respondent's obligation to respond: Mandatory (40 CFR part 60, subpart QQ).

Estimated number of respondents: 22.

Frequency of response: Initially, semiannually.

Estimated annual burden: 2,060 hours.

Estimated annual cost: $238,000, includes no annualized capital or O&M costs.

Changes in estimates: There is a projected increase in burden due to an increase in the number of sources subject to the regulation.

(28) Docket ID Number: EPA-HQ-OAR-2022-0052; NSPS for Incinerators (40 CFR part 60, subpart E) (Renewal); EPA ICR Number 1058.14; OMB Control Number 2060-0040; Expiration date July 31, 2023.

Respondents: Solid waste incineration units.

Respondent's obligation to respond: Mandatory (40 CFR part 60, subpart E).

Estimated number of respondents: 82.

Frequency of response: Annually.

Estimated annual burden: 2,070 hours.

Estimated annual cost: $796,000, includes $247,000 annualized capital or O&M costs.

Changes in estimates: There is no projected change in burden from the previous ICR.

(29) Docket ID Number: EPA-HQ-OAR-2022-0060; NSPS for Stationary Gas Turbines (40 CFR part 60, subpart GG) (Renewal); EPA ICR Number 1071.14; OMB Control Number 2060-0028; Expiration date July 31, 2023.

Respondents: Stationary gas turbines.

Respondent's obligation to respond: Mandatory (40 CFR part 60, subpart GG).

Estimated number of respondents: 535.

Frequency of response: Semiannually.

Estimated annual burden: 69,100 hours.

Estimated annual cost: $8,000,000, includes no annualized capital or O&M costs.

Changes in estimates: There is no projected change in burden from the previous ICR.

(30) Docket ID Number: EPA-HQ-OAR-2022-0068; NSPS for VOC Emissions from Petroleum Refinery Wastewater Systems (40 CFR part 60, subpart QQQ) (Renewal); EPA ICR Number 1136.15; OMB Control Number 2060-0172; Expiration date August 31, 2023.

Respondents: Petroleum refineries with wastewater systems.

Respondent's obligation to respond: Mandatory (40 CFR part 60, Ssubpart QQQ).

Estimated number of respondents: 149.

Frequency of response: Semiannually.

Estimated annual burden: 10,200 hours.

Estimated annual cost: $1,200,000, includes $19,400 annualized capital or O&M costs.

Changes in estimates: There is no projected change in burden from the previous ICR.

(31) Docket ID Number: EPA-HQ-OAR-2022-0055; NSPS for Equipment Leaks of VOC in Petroleum Refineries (40 CFR part 60, subparts GGG and GGGa) (Renewal); EPA ICR Number 0983.17; OMB Control Number 2060-0067; Expiration date September 30, 2023.

Respondents: Petroleum refineries.

Respondent's obligation to respond: Mandatory (40 CFR part 60, subparts GGG and GGGa).

Estimated number of respondents: 116.

Frequency of response: Semiannually.

Estimated annual burden: 183,700 hours.

Estimated annual cost: $21,220,000, includes no annualized capital or O&M costs.

Changes in estimates: There is no projected change in burden from the previous ICR.

(32) Docket ID Number: EPA-HQ-OAR-2022-0038; NSPS for Stationary Spark Ignition Internal Combustion Engines (40 CFR part 60, subpart JJJJ) (Renewal); EPA ICR Number 2227.07; OMB Control Number 2060-0610; Expiration date September 30, 2023.

Respondents: Facilities with stationary spark ignition internal combustion engines.

Respondent's obligation to respond: Mandatory (40 CFR part 60, subpart JJJJ).

Estimated number of respondents: 19,076.

Frequency of response: Annually.

Estimated annual burden: 36,600 hours.

Estimated annual cost: $6,860,000, includes $2,570,000 annualized capital or O&M costs.

Changes in estimates: There is a projected increase in burden due to an increase in the number of sources subject to the regulation.

(33) Docket ID Number: EPA-HQ-OAR-2022-0045; NSPS for Commercial and Industrial Solid Waste Incineration (CISWI) Units (40 CFR part 60, subpart CCCC) (Renewal); EPA ICR Number 2384.06; OMB Control Number 2060-0662; Expiration date September 30, 2023.

Respondents: Commercial and industrial solid waste incineration units.

Respondent's obligation to respond: Mandatory (40 CFR part 60, subpart CCCC) (Renewal).

Estimated number of respondents: 11.

Frequency of response: Annually, semiannually.

Estimated annual burden: 1,700 hours.

Estimated annual cost: $970,000, includes $769,000 annualized capital or O&M costs.

Changes in estimates: There is a projected increase in burden due to an increase in the number of sources subject to the regulation.

(34) Docket ID Number: EPA-HQ-OAR-2022-0048; NSPS for Kraft Pulp Mills for which Construction, Reconstruction or Modification Commenced after May 23, 2013 (40 CFR part 60, subpart BB) (Renewal); EPA ICR Number 2485.05; OMB Control Number 2060-0690; Expiration date September 30, 2023.

Respondents: Kraft pulp mills.

Respondent's obligation to respond: Mandatory (40 CFR part 60, subpart BB) (Renewal).

Estimated number of respondents: 12.

Frequency of response: Semiannually.

Estimated annual burden: 5,250 hours.

Estimated annual cost: $1,580,000, includes $976,000 annualized capital or O&M costs.

Changes in estimates: There is a projected increase in burden due to an increase in the number of sources subject to the regulation.

Penny Lassiter,
Director, Sector Policies and Programs Division.

[FR Doc. 2022-15563 Filed 7-21-22; 8:45 am]

BILLING CODE 6560-50-P